DEPARTMENT OF HEALTH AND HUMAN SERVICES

National Institutes of Health

Office of the Director, National Institutes of Health; Notice of Meeting

Pursuant to section 1009 of the Federal Advisory Committee Act, as amended, notice is hereby given of a meeting of the Office of AIDS Research Advisory Council.

The meeting will be open to the public, with attendance limited to space available. Individuals who plan to attend and need special assistance, such as sign language interpretation or other reasonable accommodations, should notify the Contact Person listed below in advance of the meeting. The meeting will be videocast and can be accessed from the NIH Videocasting and Podcasting website (http://videocast.nih.gov/).

Name of Committee: Office of AIDS Research Advisory Council.

Date: June 22, 2023.

Time: 12:15 p.m. to 5:00 p.m.

Agenda: The sixty third meeting of the Office of AIDS Research Advisory Council (OARAC) will feature presentations related to HIV and women; the OAR Director's Report; updates from the Clinical Guidelines Working Groups of OARAC; updates from NIH HIV-related advisory councils; report outs and discussions on OAR's Early-Career Investigators and HIV & Aging signature programs; and public comment.

Place: Office of AIDS Research, 5601 Fishers Lane, Room 1D13 Grand Hall, Rockville, MD 20852 (Hybrid Meeting: Virtual and in person. Virtual meeting link will be available at https://videocast.nih.gov/watch=49574).

Contact Person: Corette' Byrd, RN, MS, HIVinfo Program Manager, Office of AIDS Research, Office of the Director, National Institutes of Health, 5601 Fishers Lane, Rockville, MD 20852, (301) 761-7369, OARACInfo@nih.gov.

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs and hotel and airport shuttles, will be inspected before being allowed on campus. Visitors will be asked to show one form of identification (for example, a government-issued photo ID, driver's license, or passport) and to state the purpose of their visit.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: May 23, 2023.
Tyeshia M. Roberson-Curtis,
Program Analyst, Office of Federal Advisory Committee Policy.

[FR Doc. 2023-11396 Filed 5-26-23; 8:45 am]

BILLING CODE 4140-01-P